INTERNATIONAL TRADE COMMISSION

[Investigation No. 731-TA-683 (Review)]

Fresh Garlic From China

Determination

On the basis of the record ¹ developed in the subject five-year review, the United States International Trade Commission determines, ² pursuant to section 751(c) of the Tariff Act of 1930 (19 U.S.C. 1675(c)) (the Act), that revocation of the antidumping duty order on fresh garlic from China would be likely to lead to continuation or recurrence of material injury to an industry in the United States within a reasonably foreseeable time.

Background

The Commission instituted this review on December 1, 1999 (64 FR 67315) and determined on March 3, 2000, that it would conduct a full review (65 FR 13989, March 15, 2000). Notice of the scheduling of the Commission's review and of a public hearing to be held in connection therewith was given by posting copies of the notice in the Office of the Secretary, U.S. International Trade Commission, Washington, DC, and by publishing the notice in the Federal Register on August 30, 2000 (65 FR 52784). The hearing was held in Washington, DC, on December 19, 2000, and all persons who requested the opportunity were permitted to appear in person or by counsel.

¹ The record is defined in § 207.2(f) of the Commission's Rules of Practice and Procedure (19 CFR 207.2(f)).

² Commissioner Dennis M. Devaney not participating.

The Commission transmitted its determination in this investigation to the Secretary of Commerce on February 21, 2001. The views of the Commission are contained in USITC Publication 3393 (February 2001), entitled Fresh Garlic from China: Investigation No. 731-TA-683 (Review).

Issued: February 22, 2001.
By order of the Commission.
Donna R. Koehnke,
Secretary.

[FR Doc. 01-4834 Filed 2-27-01; 8:45 am]

BILLING CODE 7020-02-P